DEPARTMENT OF ENERGY

Federal Energy Regulatory Commission

Combined Notice of Filings #2

Take notice that the Commission received the following electric rate filings:

Docket Numbers: ER10-3168-011; ER15-357-001; ER15-356-001; ER13-618-006; ER12-2570-007.

Applicants: ArcLight Energy Marketing, LLC, Chief Conemaugh Power, LLC, Chief Keystone Power, LLC, Panther Creek Power Operating, LLC, Westwood Generation, LLC.

Description: Notice of Non-Material Change in Status of ArcLight Energy Marketing, LLC, et. al.

Filed Date: 1/29/15.

Accession Number: 20150129-5181.

Comments Due: 5 p.m. ET 2/19/15.

Docket Numbers: ER12-1436-008; ER14-152-003; ER13-1793-005; ER12-1260-007; ER10-3099-010; ER10-2329-005.

Applicants: Eagle Point Power Generation LLC, Elgin Energy Center, LLC, Hazle Spindle, LLC, RC Cape May Holdings, LLC, Stephentown Spindle, LLC, Vineland Energy LLC.

Description: Notice of Change in Status and Asset Appendix Update of the Rockland Sellers.

Filed Date: 1/29/15.

Accession Number: 20150129-5197.

Comments Due: 5 p.m. ET 2/19/15.

Docket Numbers: ER15-591-001.

Applicants: PJM Interconnection, L.L.C.

Description: Compliance filing per 35: Compliance Filing per 1/16/15 Order to Correct Typographical Error to be effective 2/5/2015.

Filed Date: 1/29/15.

Accession Number: 20150129-5226.

Comments Due: 5 p.m. ET 2/19/15.

Docket Numbers: ER15-919-000.

Applicants: PJM Interconnection, L.L.C.

Description: § 205(d) rate filing per 35.13(a)(2)(iii): Original Service Agreement No. 4083; Queue Y3-058 to be effective 12/31/2014.

Filed Date: 1/29/15.

Accession Number: 20150129-5113.

Comments Due: 5 p.m. ET 2/19/15.

Docket Numbers: ER15-920-000.

Applicants: Arizona Public Service Company.

Description: § 205(d) rate filing per 35.13(a)(2)(iii): Service Agreement No. 340—City of Azusa Firming Service and Energy Exchange to be effective 4/1/2015.

Filed Date: 1/29/15.

Accession Number: 20150129-5114.

Comments Due: 5 p.m. ET 2/19/15.

Docket Numbers: ER15-921-000.

Applicants: Covanta Delaware Valley, L.P.

Description: § 205(d) rate filing per 35.13(a)(2)(iii): Revisions to Market-Based Rate Tariff to be effective 3/30/2015.

Filed Date: 1/29/15.

Accession Number: 20150129-5200.

Comments Due: 5 p.m. ET 2/19/15.

Docket Numbers: ER15-922-000.

Applicants: Covanta Energy Marketing LLC.

Description: § 205(d) rate filing per 35.13(a)(2)(iii): Revised Market-Based Rate Tariff to be effective 3/30/2015.

Filed Date: 1/29/15.

Accession Number: 20150129-5201.

Comments Due: 5 p.m. ET 2/19/15.

Docket Numbers: ER15-923-000.

Applicants: Covanta Essex Company.

Description: § 205(d) rate filing per 35.13(a)(2)(iii): Revised Market-Based Rate Tariff to be effective 3/30/2015.

Filed Date: 1/29/15.

Accession Number: 20150129-5202.

Comments Due: 5 p.m. ET 2/19/15.

Docket Numbers: ER15-924-000.

Applicants: Covanta Haverhill Associates, LP.

Description: § 205(d) rate filing per 35.13(a)(2)(iii): Notice of Succession to be effective 3/30/2015.

Filed Date: 1/29/15.

Accession Number: 20150129-5203.

Comments Due: 5 p.m. ET 2/19/15.

Docket Numbers: ER15-925-000.

Applicants: Covanta Maine, LLC.

Description: § 205(d) rate filing per 35.13(a)(2)(iii): Revised Market-Based Rate Tariff to be effective 3/30/2015.

Filed Date: 1/29/15.

Accession Number: 20150129-5204.

Comments Due: 5 p.m. ET 2/19/15.

Docket Numbers: ER15-926-000.

Applicants: Covanta Niagara, L.P.

Description: § 205(d) rate filing per 35.13(a)(2)(iii): Notice of Succession to be effective 3/30/2015.

Filed Date: 1/29/15.

Accession Number: 20150129-5205.

Comments Due: 5 p.m. ET 2/19/15.

Docket Numbers: ER15-927-000.

Applicants: Covanta Plymouth Renewable Energy Limited Partnership.

Description: § 205(d) rate filing per 35.13(a)(2)(iii): Notice of Succession to be effective 3/30/2015.

Filed Date: 1/29/15.

Accession Number: 20150129-5207.

Comments Due: 5 p.m. ET 2/19/15.

Take notice that the Commission received the following land acquisition reports:

Docket Numbers: LA14-4-000.

Applicants: Blue Sky East, LLC, Palouse Wind, LLC, Canandaigua Power Partners, LLC, Canandaigua Power Partners II, LLC, Erie Wind, LLC, Evergreen Wind Power, LLC, Evergreen Wind Power III, LLC, First Wind Energy Marketing, LLC, Longfellow Wind, LLC, Milford Wind Corridor Phase I, LLC, Milford Wind Corridor Phase II, LLC, Niagara Wind Power, LLC, Stetson Wind II, LLC, Stetson Holdings, LLC, Vermont Wind, LLC.

Description: Quarterly Land Acquisition Report of Blue Sky East, LLC, et al.

Filed Date: 1/29/15.

Accession Number: 20150129-5140.

Comments Due: 5 p.m. ET 2/19/15.

Docket Numbers: LA14-4-000.

Applicants: Beech Ridge Energy LLC, Beech Ridge Energy II LLC, Beech Ridge Energy Storage LLC, Bishop Hill Energy LLC, Bishop Hill Energy III LLC, California Ridge Wind Energy LLC, Forward Energy LLC, Grand Ridge Energy LLC, Grand Ridge Energy II LLC, Grand Ridge Energy III LLC, Grand Ridge Energy IV LLC, Grand Ridge Energy V LLC, Grand Ridge Energy Storage LLC, Gratiot County Wind LLC, Gratiot County Wind II LLC, Grays Harbor Energy LLC, Hardee Power Partners Limited, Invenergy Cannon Falls LLC, Invenergy Nelson LLC, Invenergy TN LLC, Judith Gap Energy LLC, Spindle Hill Energy LLC, Prairie Breeze Wind Energy LLC, Sheldon Energy LLC, Vantage Wind Energy LLC, Stony Creek Energy LLC, Spring Canyon Energy II LLC, Spring Canyon Energy III LLC, Spring Canyon Energy LLC, Wolverine Creek Energy LLC, Willow Creek Energy LLC.

Description: Quarterly Land Acquisition Report of Beech Ridge Energy LLC, et al.

Filed Date: 1/29/15.

Accession Number: 20150129-5141.

Comments Due: 5 p.m. ET 2/19/15.

Docket Numbers: LA14-4-000.

Applicants: CPV Maryland, LLC, CPV Shore, LLC, CPV Sentinel, LLC, CPV Keenan II Renewable Energy Company, LLC.

Description: Quarterly Land Acquisition Report of the CPV MBR Companies.

Filed Date: 1/29/15.

Accession Number: 20150129-5146.

Comments Due: 5 p.m. ET 2/19/15.

Take notice that the Commission received the following open access transmission tariff filings:

Docket Numbers: OA15-1-000.

Applicants: Eagle Point Power Generation LLC.

Description: Request for Waiver of the Requirements to File an Open-Access Transmission Tariff, Establish an Open-Access Same Time Information System and Comply With the Standards of Conduct of Eagle Point Power Generation LLC.

Filed Date: 1/29/15.

Accession Number: 20150129-5222.

Comments Due: 5 p.m. ET 2/19/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 29, 2015.
Nathaniel J. Davis, Sr.,
Deputy Secretary.

[FR Doc. 2015-02629 Filed 2-9-15; 8:45 am]

BILLING CODE 6717-01-P